DEPARTMENT OF ENERGY

Federal Energy Regulatory Commission

Combined Notice of Filings #1

Take notice that the Commission received the following electric corporate filings:

Docket Numbers: EC25-15-000.

Applicants: Reworld Holding Corporation on Behalf of its Public Utility Subsidiaries, GIC Infra Holdings Pte. Ltd.

Description: Joint Application for Authorization Under Section 203 of the Federal Power Act of Reworld Holding Corporation, et al.

Filed Date: 10/28/24.

Accession Number: 20241028-5214.

Comment Date: 5 p.m. ET 11/18/24.

Take notice that the Commission received the following electric rate filings:

Docket Numbers: ER07-562-005.

Applicants: Trans-Allegheny Interstate Line Company.

Description: Trans-Allegheny Interstate Line Company Response to 09/26/2024 Deficiency Letter.

Filed Date: 10/28/24.

Accession Number: 20241028-5220.

Comment Date: 5 p.m. ET 11/18/24.

Docket Numbers: ER10-3299-017; ER10-2480-013.

Applicants: Berkshire Power Company, LLC, New Athens Generating Company, LLC.

Description: Notice of Non-Material Change in Status of New Athens Generating Company, LLC, et al.

Filed Date: 10/29/24.

Accession Number: 20241029-5251.

Comment Date: 5 p.m. ET 11/19/24.

Docket Numbers: ER22-965-005.

Applicants: Covanta Delaware Valley, L.P.

Description: Compliance filing: Reworld Delaware Valley, L.P. submits tariff filing per 35: Informational Filing Re Transfer of Control, Requests Waiver & Expedited Action to be effective N/A.

Filed Date: 10/28/24.

Accession Number: 20241028-5162.

Comment Date: 5 p.m. ET 11/18/24.

Docket Numbers: ER22-966-005.

Applicants: Covanta Essex Company.

Description: Compliance filing: Reworld Essex Company submits tariff filing per 35: Informational Filing Re Transfer of Control, Requests Waiver & Expedited Action to be effective N/A.

Filed Date: 10/28/24.

Accession Number: 20241028-5170.

Comment Date: 5 p.m. ET 11/18/24.

Docket Numbers: ER22-967-005.

Applicants: Covanta Fairfax, LLC.

Description: Compliance filing: Reworld Fairfax, LLC submits tariff filing per 35: Informational Filing Re Transfer of Control, Requests Waiver & Expedited Action to be effective N/A.

Filed Date: 10/28/24.

Accession Number: 20241028-5176.

Comment Date: 5 p.m. ET 11/18/24.

Docket Numbers: ER22-968-005.

Applicants: Covanta Plymouth Renewable Energy, LLC.

Description: Compliance filing: Reworld Plymouth, LLC submits tariff filing per 35: Informational Filing Re Transfer of Control, Requests Waiver & Expedited Action to be effective N/A.

Filed Date: 10/28/24.

Accession Number: 20241028-5180.

Comment Date: 5 p.m. ET 11/18/24.

Docket Numbers: ER23-102-003; ER23-101-003.

Applicants: North East Offshore, LLC, Revolution Wind, LLC.

Description: Notice of Non-Material Change in Status of Revolution Wind, LLC, et al.

Filed Date: 10/29/24.

Accession Number: 20241029-5253.

Comment Date: 5 p.m. ET 11/19/24.

Docket Numbers: ER24-1894-001.

Applicants: Stanton Clean Energy, LLC.

Description: Tariff Amendment: Response to Deficiency Letter & Amendments to PPA (ER24-1894-) to be effective 5/1/2024.

Filed Date: 10/29/24.

Accession Number: 20241029-5184.

Comment Date: 5 p.m. ET 11/19/24.

Docket Numbers: ER24-1952-001.

Applicants: American Transmission Systems, Incorporated.

Description: American Transmission Systems, Inc. Response to 09/26/2024 Deficiency Letter.

Filed Date: 10/28/24.

Accession Number: 20241028-5217.

Comment Date: 5 p.m. ET 11/18/24.

Docket Numbers: ER24-2045-002.

Applicants: PJM Interconnection, L.L.C.

Description: Compliance filing: Submission of Responses to Data Request in Order Nos. 2023 and 2023-A Compliance to be effective N/A.

Filed Date: 10/29/24.

Accession Number: 20241029-5244.

Comment Date: 5 p.m. ET 11/19/24.

Docket Numbers: ER24-2178-001.

Applicants: Mid-Atlantic Interstate Transmission, LLC.

Description: Mid-Atlantic Interstate Transmission, LLC Response to 09/26/2024 Deficiency Letter.

Filed Date: 10/28/24.

Accession Number: 20241028-5219.

Comment Date: 5 p.m. ET 11/18/24.

Docket Numbers: ER24-2247-001.

Applicants: Jersey Central Power & Light Company.

Description: Jersey Central Power & Light Company Response to 09/26/2024 Deficiency Letter.

Filed Date: 10/28/24.

Accession Number: 20241028-5218.

Comment Date: 5 p.m. ET 11/18/24.

Docket Numbers: ER24-2299-001.

Applicants: South FirstEnergy Operating Companies.

Description: South FirstEnergy Operating Companies Response to 09/26/2024 Deficiency Letter.

Filed Date: 10/28/24.

Accession Number: 20241028-5221.

Comment Date: 5 p.m. ET 11/18/24.

Docket Numbers: ER24-3028-000; ER24-3029-000.

Applicants: Livingston Generating Station, LLC, Kalamazoo Generating Station, LLC.

Description: Supplement to 10/16/2024 Kalamazoo Generating Station, LLC, et al. tariff filing.

Filed Date: 10/28/24.

Accession Number: 20241028-5066.

Comment Date: 5 p.m. ET 11/18/24.

Docket Numbers: ER24-3059-000.

Applicants: Dan's Mountain Wind Force, LLC.

Description: Supplement to 09/17/2024, Dan's Mountain Wind Force, LLC tariff filing.

Filed Date: 10/28/24.

Accession Number: 20241028-5173.

Comment Date: 5 p.m. ET 11/7/24.

Docket Numbers: ER25-238-000.

Applicants: PJM Interconnection, L.L.C.

Description: § 205(d) Rate Filing: Amendment to ISA, SA No. 6172; Queue Nos. AC2-059/AD1-072/AD2-016 to be effective 12/28/2024.

Filed Date: 10/28/24.

Accession Number: 20241028-5146.

Comment Date: 5 p.m. ET 11/18/24.

Docket Numbers: ER25-239-000.

Applicants: Public Service Company of Colorado.

Description: § 205(d) Rate Filing: 2024-12-28—WAPA—Non-Conforming NITS 325-0.4.0 to be effective 12/28/2024.

Filed Date: 10/28/24.

Accession Number: 20241028-5192.

Comment Date: 5 p.m. ET 11/18/24.

Docket Numbers: ER25-240-000.

Applicants: Southwest Power Pool, Inc.

Description: § 205(d) Rate Filing: 3977R1 Salt Branch Solar GIA to be effective 10/18/2024.

Filed Date: 10/29/24.

Accession Number: 20241029-5004.

Comment Date: 5 p.m. ET 11/19/24.

Docket Numbers: ER25-241-000.

Applicants: New York Independent System Operator, Inc., Niagara Mohawk Power Corporation.

Description: Tariff Amendment: New York Independent System Operator, Inc. submits tariff filing per 35.15: Notice of Cancellation: EPCA SA 2688 among NYISO, National Grid, and NEET NY to be effective 12/30/2024.

Filed Date: 10/29/24.

Accession Number: 20241029-5018.

Comment Date: 5 p.m. ET 11/19/24.

Docket Numbers: ER25-242-000.

Applicants: Fuse Energy NY LLC.

Description: Initial rate filing: MBR Application to be effective 1/1/2025.

Filed Date: 10/29/24.

Accession Number: 20241029-5033.

Comment Date: 5 p.m. ET 11/19/24.

Docket Numbers: ER25-243-000.

Applicants: Assembly Solar II, LLC.

Description: § 205(d) Rate Filing: Revised Market-Based Rate Tariff Filing to be effective 12/29/2024.

Filed Date: 10/29/24.

Accession Number: 20241029-5036.

Comment Date: 5 p.m. ET 11/19/24.

Docket Numbers: ER25-244-000.

Applicants: Blue Bird Solar, LLC.

Description: § 205(d) Rate Filing: Revised Market-Based Rate Tariff Filing to be effective 12/29/2024.

Filed Date: 10/29/24.

Accession Number: 20241029-5037.

Comment Date: 5 p.m. ET 11/19/24.

Docket Numbers: ER25-245-000.

Applicants: Gravel Pit Solar III, LLC.

Description: § 205(d) Rate Filing: Revised Market-Based Rate Tariff Filing to be effective 12/29/2024.

Filed Date: 10/29/24.

Accession Number: 20241029-5038.

Comment Date: 5 p.m. ET 11/19/24.

Docket Numbers: ER25-246-000.

Applicants: Gravel Pit Solar IV, LLC.

Description: § 205(d) Rate Filing: Revised Market-Based Rate Tariff Filing to be effective 12/29/2024.

Filed Date: 10/29/24.

Accession Number: 20241029-5039.

Comment Date: 5 p.m. ET 11/19/24.

Docket Numbers: ER25-247-000.

Applicants: Long Lake Solar, LLC.

Description: § 205(d) Rate Filing: Revised Market-Based Rate Tariff Filing to be effective 12/29/2024.

Filed Date: 10/29/24.

Accession Number: 20241029-5043.

Comment Date: 5 p.m. ET 11/19/24.

Docket Numbers: ER25-248-000.

Applicants: Happy Solar 1, LLC.

Description: § 205(d) Rate Filing: Revision of MBR Tariff, Change in Category Status to be effective 10/30/2024.

Filed Date: 10/29/24.

Accession Number: 20241029-5067.

Comment Date: 5 p.m. ET 11/19/24.

Docket Numbers: ER25-249-000.

Applicants: Oxbow Solar Farm 1, LLC.

Description: § 205(d) Rate Filing: Revision of MBR Tariff, Change in Category Status to be effective 10/30/2024.

Filed Date: 10/29/24.

Accession Number: 20241029-5070.

Comment Date: 5 p.m. ET 11/19/24.

Docket Numbers: ER25-250-000.

Applicants: Rochester Gas and Electric Corporation, New York Independent System Operator, Inc.

Description: Tariff Amendment: Rochester Gas and Electric Corporation submits tariff filing per 35.15: Notice of Cancellation: EPCA SA 2635 among NYISO, RG&E, and NEET NY to be effective 12/30/2024.

Filed Date: 10/29/24.

Accession Number: 20241029-5096.

Comment Date: 5 p.m. ET 11/19/24.

Docket Numbers: ER25-251-000.

Applicants: Omaha Public Power District, Southwest Power Pool, Inc.

Description: § 205(d) Rate Filing: Omaha Public Power District submits tariff filing per 35.13(a)(2)(iii: Omaha Public Power District Formula Rate Revisions to be effective 1/1/2025.

Filed Date: 10/29/24.

Accession Number: 20241029-5117.

Comment Date: 5 p.m. ET 11/19/24.

Docket Numbers: ER25-252-000.

Applicants: NextEra Energy Transmission Southwest, LLC, Southwest Power Pool, Inc.

Description: § 205(d) Rate Filing: NextEra Energy Transmission Southwest, LLC submits tariff filing per 35.13(a)(2)(iii: NEET SW Formula Rate Revisions (Wolf-Creek Blackberry) to be effective 1/1/2025.

Filed Date: 10/29/24.

Accession Number: 20241029-5155.

Comment Date: 5 p.m. ET 11/19/24.

Docket Numbers: ER25-253-000.

Applicants: Duke Energy Florida, LLC.

Description: § 205(d) Rate Filing: DEF-Pinellas County LGIA to be effective 1/1/2025.

Filed Date: 10/29/24.

Accession Number: 20241029-5156.

Comment Date: 5 p.m. ET 11/19/24.

Docket Numbers: ER25-254-000.

Applicants: NECEC Transmission LLC.

Description: § 205(d) Rate Filing: Bilateral, Cost-Based TSAs Incorporating Fourth Amendments (Eversource) to be effective 10/30/2024.

Filed Date: 10/29/24.

Accession Number: 20241029-5176.

Comment Date: 5 p.m. ET 11/19/24.

Docket Numbers: ER25-255-000.

Applicants: NECEC Transmission LLC.

Description: § 205(d) Rate Filing: Bilateral, Cost-Based TSAs Incorporating Fourth Amendments (National Grid) to be effective 10/30/2024.

Filed Date: 10/29/24.

Accession Number: 20241029-5180.

Comment Date: 5 p.m. ET 11/19/24.

Docket Numbers: ER25-256-000.

Applicants: NECEC Transmission LLC.

Description: § 205(d) Rate Filing: Bilateral, Cost-Based TSAs Incorporating Fourth Amendments (Unitil) to be effective 10/30/2024.

Filed Date: 10/29/24.

Accession Number: 20241029-5190.

Comment Date: 5 p.m. ET 11/19/24.

Docket Numbers: ER25-257-000.

Applicants: NECEC Transmission LLC.

Description: § 205(d) Rate Filing: Bilateral, Cost-Based TSAs Incorporating Fourth Amendments (HQUS Eversource) to be effective 10/30/2024.

Filed Date: 10/29/24.

Accession Number: 20241029-5191.

Comment Date: 5 p.m. ET 11/19/24.

Docket Numbers: ER25-258-000.

Applicants: NECEC Transmission LLC.

Description: § 205(d) Rate Filing: Bilateral, Cost-Based TSAs Incorporating Fourth Amendments (HQUS National Grid) to be effective 10/30/2024.

Filed Date: 10/29/24.

Accession Number: 20241029-5193.

Comment Date: 5 p.m. ET 11/19/24.

Docket Numbers: ER25-259-000.

Applicants: NECEC Transmission LLC.

Description: § 205(d) Rate Filing: Bilateral, Cost-Based TSAs Incorporating Fourth Amendments (HQUS Unitil) to be effective 10/30/2024.

Filed Date: 10/29/24.

Accession Number: 20241029-5196.

Comment Date: 5 p.m. ET 11/19/24.

Docket Numbers: ER25-260-000.

Applicants: Midcontinent Independent System Operator, Inc., Ameren Illinois Company.

Description: § 205(d) Rate Filing: Midcontinent Independent System Operator, Inc. submits tariff filing per 35.13(a)(2)(iii: 2024-10-29_SA 3028 Ameren IL-Prairie Power Project #41 Sugar Grove-Rushville to be effective 12/29/2024.

Filed Date: 10/29/24.

Accession Number: 20241029-5199.

Comment Date: 5 p.m. ET 11/19/24.

Docket Numbers: ER25-261-000.

Applicants: NECEC Transmission LLC.

Description: § 205(d) Rate Filing: Bilateral, Cost-Based TSAs Incorporating Fourth Amendments (HQUS Additional) to be effective 10/30/2024.

Filed Date: 10/29/24.

Accession Number: 20241029-5201.

Comment Date: 5 p.m. ET 11/19/24.

Docket Numbers: ER25-262-000.

Applicants: Startrans IO, LLC.

Description: § 205(d) Rate Filing: Startrans IO, LLC TRBAA 2025 Update to be effective 1/1/2025.

Filed Date: 10/29/24.

Accession Number: 20241029-5202.

Comment Date: 5 p.m. ET 11/19/24.

Docket Numbers: ER25-263-000.

Applicants: Dunns Bridge Energy Storage, LLC.

Description: Compliance filing: Notice of Non-Material Change in Status and MBR Tariff Revisions to be effective 12/29/2024.

Filed Date: 10/29/24.

Accession Number: 20241029-5213.

Comment Date: 5 p.m. ET 11/19/24.

Docket Numbers: ER25-264-000.

Applicants: Public Service Company of Colorado.

Description: Tariff Amendment: 2024-10-29—PSC—GI-2014-9—SS—LGIA Amnd 1-457 NOC to be effective 10/30/2024.

Filed Date: 10/29/24.

Accession Number: 20241029-5218.

Comment Date: 5 p.m. ET 11/19/24.

Take notice that the Commission received the following electric securities filings:

Docket Numbers: ES25-10-000.

Applicants: AEP GENERATING COMPANY.

Description: Application Under Section 204 of the Federal Power Act for Authorization to Issue Securities of AEP Generating Company.

Filed Date: 10/29/24.

Accession Number: 20241029-5248.

Comment Date: 5 p.m. ET 11/19/24.

Docket Numbers: ES25-11-000.

Applicants: Ameren Transmission Company of Illinois.

Description: Application Under Section 204 of the Federal Power Act for Authorization to Issue Securities of Ameren Services Company.

Filed Date: 10/29/24.

Accession Number: 20241029-5254.

Comment Date: 5 p.m. ET 11/19/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: October 29, 2024.
Debbie-Anne A. Reese,
Secretary.

[FR Doc. 2024-25629 Filed 11-4-24; 8:45 am]

BILLING CODE 6717-01-P